DEPARTMENT OF COMMERCE

National Oceanic and Atmospheric Administration

RIN 0648-XA214

Draft NOAA National Aquaculture Policy

AGENCY: National Marine Fisheries Service (NMFS), National Oceanic and Atmospheric Administration (NOAA), Commerce.

ACTION: Notice of availability of draft aquaculture policy; request for comments.

SUMMARY: NOAA is seeking public comment on a draft national aquaculture policy that supports sustainable marine aquaculture in the United States. The intent of the policy is to guide NOAA's actions and decisions on aquaculture and to provide a national approach for supporting sustainable aquaculture. The NOAA Aquaculture Program will host national call-in briefings on the policy for the public.

DATES: Public comments must be received by midnight, EST, April 11, 2011.

ADDRESSES: The NOAA draft national aquaculture policy is available online at: http://www.nmfs.noaa.gov/aquaculture/policy2/index.htm. Paper copies of this document are also available on request from NOAA Aquaculture Program, Attn: Susan Bunsick, 1315 East-West Highway, SSMC#3-13th Floor, Rm. 13152, Silver Spring, MD 20910.

You may submit comments, identified by “NOAA Aquaculture Policy,” by any one of the following methods:

• Electronic Submissions: Submit all electronic public comments online by accessing http://www.nmfs.noaa.gov/aquaculture/policy2/index.htm and following the instructions for submitting comments.

• Fax: (301) 713-9108, Attn: Susan Bunsick, NOAA Aquaculture Program.

• Mail: NOAA Aquaculture Program, Attn: Susan Bunsick, 1315 East-West Highway, SSMC#3-13th Floor, Rm. 13152, Silver Spring, MD 20910. Mark the outside of the envelope, “Comments on NOAA Aquaculture Policy.”

Instructions: All comments received will be posted online. Do not submit confidential business information or otherwise sensitive or protected information. All comments and attachments will be reviewed based on the commenting guidelines listed below. If you have a question about the status of your comment, send an email to NOAA.Aquaculture@noaa.gov. Do not submit comments to this e-mail address. Use the comment form provided on line.

Commenting Guidelines. In accordance with NOAA's Online Privacy Policy, we treat your name, city, state, and any comments you provide as public information. You may enter a comment as `anonymous' if you do not want this information available to the public. Also, supporting documents, links, etc., are welcome as long as they are pertinent to the policy. However, the appearance of external links, advertisements, political opinions, or other comments do not constitute endorsement by NOAA or that of the U.S. Government.

While this is a public process, NOAA will not post content that meets the following criteria:

Contains vulgar language, personal attacks of any kind, threats, obscenity, or offensive terms that target specific ethnic or racial groups;

Promotes services or products (non-commercial links that are relevant to the comment are acceptable);

Are far off-topic (i.e., not pertinent to the draft policy); or

Make unsupported accusations.

You may submit attachments to electronic comments in Microsoft Word, Excel, WordPerfect, or Adobe PDF file formats only.

FOR FURTHER INFORMATION CONTACT: Susan Bunsick, NOAA Aquaculture Program, (301) 713-9079; fax: (301) 713-9108.

SUPPLEMENTARY INFORMATION:

Background

The draft NOAA Aquaculture Policy provides guidance for NOAA's actions regarding the development of all forms of marine aquaculture, from shellfish farming and habitat restoration to the culture of marine fish and algae on land and offshore. The policy provides a national approach for supporting sustainable commercial production, expanding restoration aquaculture, and researching and developing new technologies, and is part of NOAA's national approach to sustainable seafood, which encompasses both aquaculture and capture fisheries. The draft policy features:

• A reaffirmation of the importance of aquaculture.

• An overarching policy statement to guide agency actions.

• A set of updated agency priorities to implement the policy through initiatives in four areas:

○ Science and research

○ Regulation

○ Innovation, partnerships and outreach and

○ International cooperation

• Detailed principles for aquaculture in federal waters.

The draft policy responds to public input submitted to NOAA at the listening sessions held in 2010, by emphasizing the protection of wild species, acknowledging the importance of sound science, and taking other suggestions into account. It also affirms that sustainable U.S. marine aquaculture is vital to the U.S. seafood supply, the economic vitality of coastal communities, and the maintenance of working waterfronts.

Informational Briefings for the Public

The NOAA Aquaculture Program will host a series of informational briefings for stakeholders interested in learning more about the draft policy. The briefings are as follows:

Feb. 16, 2011

10-11 a.m. (Eastern)

Call-in—800-369-1823, Passcode: Aquaculture.

4-5 p.m. (Eastern)

Call-in #—800-369-1823, Passcode: Aquaculture.

Feb. 23, 2011

10-11:a.m. (Eastern)

Call-in #—800-369-1823, Passcode: Aquaculture.

4—5 p.m. (Eastern)

Call-in #—800-369-1823, Passcode: Aquaculture.

Dated: February 10, 2011.
Eric C. Schwaab,
Assistant Administrator for Fisheries, National Marine Fisheries Service.

[FR Doc. 2011-3424 Filed 2-15-11; 8:45 am]

BILLING CODE 3510-22-P